DEPARTMENT OF JUSTICE

Drug Enforcement Administration

Importer of Controlled Substances; Notice of Application; Cerilliant Corporation

Correction

In notice document 2012-19199 appearing on pages 47108-47109 in the issue of Tuesday, August 7, 2012, make the following corrections:

1. On page 47108, in the third column, the document heading should appear as set forth above.

2. On page 47109, in the sixth paragraph following the table, in the eighth line of text, “September 6, 2012” should read “September 19, 2012”.

[FR Doc. C1-2012-19199 Filed 8-17-12; 8:45 am]

BILLING CODE 1505-01-D